DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending December 31, 2020. For purposes of this listing, long-term residents, as defined in section 877(e)(2), are treated as if they were citizens of the United States who lost citizenship.

Last name | First name | Middle name/initials
AARDEMA | MICHAEL | PRESTON
ABARIUTE | SILVIJA |
ADKINS | AMANDA | ELIZABETH
AHERN | JULIE |
ALBROW | JOHN | CHARLES
ALEXANDER | KIRSTEN |
ALNAJJAR | DANA | MAJDI
ALNAJJAR | SAIF | MAJDI
AMZALLAG | ADRIEN |
ANDERSON | AUSTEN | KATHLEEN
ARAKAWA | TOSHIHIKO |
ARIE | MAYUMI |
ARITOMO | KELICHI |
ARMSTRONG | TARA | MORRELL
AUDOUZE | MYRIAM | JACQUELINE
BAER | NATASHA | CHETIYAWARDANA
BAGNARA | GIAN | LUCA
BAILEY | ELIZABETH | MARIE
BAIRD | BARBARA | DALLAS
BALDERESCHI | RENZO |
BALDOCK | SIMON | N.
BALDOCK | VIRGINIA |
BARROS | PEDRO | PABLO
BARSKYY | IGOR |
BARTA | DAMIAN | CYRIL
BAS | BJORN | NICHOLAS
BATES | GREGORY | J.
BAUGH | MISAKI | T.
BEDNARIK | JOSEPH | LEE
BENNETT | CHERYL | A.
BERENDSEN | ANNE-MARIE |
BERENDSEN | ARJEN |
BERG | BIRGIT | MONIQUE TEN
BERGER | CONNIE |
BERGER | ELIZABETH |
BERNHARDT | DIANE | CATHERINE
BILL | MARCO | HANS
BIRNER | KATRIN |
BIRNER | THOMAS |
BJORNVOLD | INGVLID |
BLASIO | GIULIANA | DE
BOEL | OLIVIER | ARNAUD
BOS | ALBERT | MARTIN
BOSSY | CAROLE |
BOUCARD | RENAN |
BOUCHARD | DIANA | CHURCHILL
BOWER | LESLIE | ANNE
BOWES | CLAIRE | S.
BOWES | NEAL | G.
BOWLES | ZEFFUL |
BOYAPATI | ADITHYA |
BRAKE-BALDOCK | KAREN | ELIZABETH TE
BRANCH | JEAN | CLAUDE
BRANCKE | ANITA |
BREDIUS | MARTINUS |
BREINGAN | LUCIENNE | ELISE
BREITSCHAFT | MARRE BEATRIJS | HARRIET
BREUNINGER | SILKE | K.
BRIZINOV | SHARON | ITAY
BROADWELL | ANDREW | HERBERT
BROADWELL | EVAN | ANDREW
BROOKS | STEPHANIE | NADINE
BROWN | DAVID | LYN
BRUSH | GREGORY | JOHN
BUCKE | DANIELLE | SHEILA BARBARA
BUCKLAND | NIGEL | CRAIG
BURKHARDT | PIERRE-ALAIN |
BYRNE | JULIE | I.
BYRNE | NICHOLAS | G.
CACCHIONE | CAROL | MARY
CALDER | JENNIFER | ROSALIE
CALVER | SHAUN | L.
CAMERON | STUART | K.
CARDAMONE | NICHOLAS |
CASELLA | ALICIA | JOANA
CASTORIADIS | MARJORIE | AMERICA
CATANIA | SABRINA |
CAVE | GERALD | JOSEPH
CERRUTTI DONAYRE | GIULIANA | I.
CHAN | ESTHER |
CHAN | JANYNE | JEN KHOON
CHAN | KATHY |
CHANG-DROP | GLORIA | CHIUNG SING
CHANTREY | ALICIA | DAY
CHAPPUIS | TANYA |
CHARLES BERSIA | JEAN-JACQUES | RENE
CHEN | KAI |
CHESSEX | CYRIL | ALAIN
CHIANG | CHUNG-CHIEN |
CHIN | HO | JING JUSTIN
CHIU | CHANEL | MUN LUM
CHIU | SANDY | MAN HUNG
CHMIEL | VIVIANE | SARAH
CHOW | JUSTIN | HOI WAH
CHRISTODOULOPOULOS | ILIAS |
CHU | SHEENA | KA-MAN
CLAIRET | GUY |
CLARKE | VIRGINIA |
CLASSEN | CORNELIA | ULRIKE
CLOES | BENOIT CHANTAL | MAURICE
CNOSSEN | BARTELINE | ASTER
CNOSSEN | MARJON | HESTER
COE | CLAIRE | JEANETTE
COENDERS | MARIA | JOHANNA
COLLINS | JANE | RUTH
COLLINS | REGINA | ANNE
CONDIT | MATTHEW | REID
CONSTANTINO | MS KENXIE | RAE
COOMBS | CATHERINE |
COONEY | LINDA | LEE
COOPER | RICHARD | C.
CORBIN | NANCY | MARGARET
CORREA | CECILIA | JENNA
CORREA | TAMARA | FELICIA SALOME
CORTHESY | QUENTIN | MARC
CREITZ | CLARA | STEPHANIE
CREUSEN | JOSEPH | MATHIAS MICHAEL
CRUZ | CAMERON | DANIEL
CRUZ | CHRISTEL | LINNEA
CUDMORE | JANIS | M.
CUMMING | NANCY | A.
CUMMINGS | RICHARD | JAMES
CUMMINS | ROBERT | DAVID
CUNNINGHAM | TOBY | DANIEL
CURTI | ARIANE | CATERINA
CUSUMANO | RITA | ANTONIETTA
DALES | RAMONA | JANE
DARBYSHIRE | CHRISTOPHER | W.
DAVID | ADAM |
DAVIS | ALTHEA | JACQUELINE
DAVIS | EDITH | J.
DAVIS | FEIGA | BLUMA
DE KINKELIN PELLETAN | TAMARA | ANNICK
DE KONINCK | JAN | PIETER
DE MESTRAL | HUBERT | HENRY
DE METZ | JULIETTE MARIE | FRANCOISE
DE RUIG | TIMOTHY | JOHN
DE SCHRYVER | INGRID | DENISE
DEANE | CARL | RAYMOND
DELAHAIJ | ERIC | JOHN
DEMPSEY | DAVID | L.
DENNIS | PATRICIA |
DENNY | MELANIE | C.
DERKSEN | GERHARDUS | H.
DEVEREUX | HELEN |
DEVNANI | MONEESHA |
DEYHLE | REBECCA-MARIE | CHRISTINE
DHALIWAL | PREETPAL | SINGH
DISHER-MULHOLLAND | CATHERINE |
DOMON | ALAIN | RICHARD
DONNELLY | LINNEA | S.
DORIGO | ANDREA |
DOUMET | DANIELA | MIRANDA
DOWGIALLO-KUEHN | JOANNA | ZOFIA
DU PONT DE BIE | NATACHA | ALEXIA
DUCHARME | ANDREE | LOUISE
DUDNEY | LAURA | ELIZABETH
DUFTSCHMID | GEORGE | KLAUS
DULAC | ROLAND | MARIO
DUNLOP | EMILY | ELIZABETH
DUYSENS | JORIS | PIETER
EDGERTON | ELIZABETH | TOMASCITA
EDWARDS | DESMOND |
EGAN | JACOBUS | ANTHONY
EGGLESTON | ZOE | JACQUELINE
EGLINTON | LORRAINE | BUXTON
ENGEL | ANNEMARIE | THERESIA
ENGENES | ERIK | ALEXANDER
ENGLISH | CAROL | A.
ENTWISTLE | ROBERTA | MARSHA
ESPOSITO | ANIELLO |
ESSAPEN | MEVIN | DARMALINGUM
FAN | YUN |
FARO | CLAUDIA | MAUREEN
FENG | XIAOMING |
FENG | YAN |
FIEDLER | GARANCE |
FINKAS | JAN |
FLOORS | LARS | SEBASTIAN
FORCEY | ERIC | JAMES
FOSSBERG | NYA | BYRON
FRASER | ALISDAIR | D.
FRIDDELL | ELEANOR | ALEXANDRA
FRYDENLUND | BENEDIKTE | MATHISEN
GADDIE | LISA | JACQUELINE
GAJDA | WILLIAM | A.
GAO | XIANG-DONG |
GARBRANDT | JAMES | ALLEN
GARBRANDT OLSEN | TONI | LYNN GARBRANDT
GARRARD | JUNG | IM
GARREL | KARIN | MARGARETA
GEDDES | MARGARET | C.
GEMONET | FLORIAN | THIERRY
GENDRON | NATHALIE | MARIE HELENE
GERARD | STANISLAS | MARY
GERMAN | VERNA |
GERTSCH | ANDREAS | JOEL
GETSIOS | SPIRO |
GIBSON | PAUL | P.
GIBSON | SHARON | N.
GILLIAN | KATHERINE | MARY
GIROUX | CHANTAL | RAYMONDE
GJEITNES | JANET | JOANNE
GLADISH | JANET |
GLASS | JULIE | ANN
GOEDEL | CLAUDINE | SUSAN
GOLSTEIN | MARTINE MARIE | P.
GOULDING | ALASTAIR | R.
GRADWELL | ANNE | LOUISE
GRAVES | NAHOKO | U.
GRAY | ROWAN | CHRISTOPHER SANFORD
GREFE | JOHN | ALAN
GRILIS | DANIELLE | P.
GUPTA | KAUSHAL | D
GYDE | DOMINIC | PATRICK RICHARD
HABERSTROH | MARK | ARTHUR
HAMADA | SHINJI |
HAMAJIMA | MASAHIKO |
HAMWEY | ROBERT | MICHAEL
HARE | VICTOR | ERNEST
HASHIMOTO | YOSHIMI |
HAYASHI | AKIYO |
HAYASHI | TERUMI |
HAYNES | TREVOR | RYDER
HEDGES | NICHOLAS | GEOFFREY
HEFFERON | SEAN | BERNARD KEONI
HENDERICKS | MARTIN | JACOB THEODORE
HENNEBERGER | MARK | STEVEN
HERFURTH | STEPHANIE | MARIE
HERMANN | LISA | MARIE
HERRON | TERENCE |
HEWETT | NICHOLAS | ALEXANDER WIGMORE
HEWSON | ROBERT | NICHOLAS ALAN
HIPPS | RYAN | CHRISTOPHER
HIRATA | TOMOKO |
HOEING | CLAUDIA | CHRISTINE
HOEING | STEPHANIE | JEANNINE
HOLT | KAREN | LEE
HOLT | ROBYN | B.
HONG | MELANIE | JIYOUNG
HOSHIBA | SYOHEI |
HOSOKAI | TOMOKO |
HSU | CHENG KUANG |
HSU | MEI-YIEH | HUANG
HSU | YUH | RONG
HUI | HAILONG |
HULSBOSCH | THEODORUS | MARIA
HYRKA | NICHOLAS |
IIDA | MADOKA |
IKARI | IKUKO |
ISHIBATA | CAMIE |
ISHIDA | YOSHIKO |
ITO | CHIE |
ITO | MAYU |
IVERSEN | MARGARET | DANA
IYADOMI | KENICHI |
JACKSON | RUTH | A.
JACOBS-JONES | YVONNE | ANGELA
JACQUES | ALINE | MADELEINE MALVINA
JASCHKE | MICHAEL |
JAUERNIG | BARBARA | CHRISTINA
JEAN | PIERRE | EMILE
JEONG | LEO |
JOHN | OMAR | AMADOU
JOHNSTON | ANGELA | DIANE
JONES | JUNE | E.
JONES | ROBIN | LOUISE
JONIAU | INGE | JOHANNA
JONKER | MANDY | JANE
KABUTO | YASUTAKA |
KADISHASANOGLU | AYNUR |
KARATSOUBA | ANASTASIA | KAZOUROV
KARTASOVA | ANTONINA | ANDREEVNA
KEITH MYERS | ANDREA |
KERI | JONAH | M.
KIEFER VON MUHLENEN | CHRISTINA | MARIETTA
KIM | EUGENE |
KIM | JENNIFER | TAEEUN
KIM | JUSTIN | EUIHYUN
KIM | KYUNG-HEE |
KIM | ROY | KEON
KIM | SEIN |
KIND | JASON | OSWALD
KITAMURA | KEIKO |
KITAO | SAGIRI |
KLIJN | MARIAN | M.
KMETKO | TOMAS |
KNOOP | ISABELLA |
KNOOP | UWE |
KOBAYASHI | AYUKO |
KOBAYASHI | CHIKAKO |
KOBAYASHI | TADASHI |
KOHATA | MICHIKO |
KOLLER | PHILIPP | BRIAN
KONO | HIROSHI |
KOREY | ANDREW | G.
KOSTNER | FRANK |
KOSTNER | TINO |
KOSTYTSKA | MARIA |
KOTWAL | ASHOK | GOPAL
KOTWAL | BHARATI |
KRAHENBUHL | MIRKO | CHRISTOPH
KREBS | MONIKA |
KRIEK | LYDIA | ELISABETH
KRISTENSEN | SABINE |
KRUSE | THOMAS | MURTAGH
KUENSTLER | LILLI |
KULPER | LINA |
KUMPE GARCIA | KAREN | LYNN
KUSHIMA | MAKI |
KUSHIMA | RYOTARO |
KUSKA | RENEE |
KUTSCHER | DANIEL |
KVAN | TOMMY | EDON
LAD | NIKITA | HITESH
LAFLAMME | BEVERLY | JEAN
LAMBRECHT NOORDERMEER | JEOREN | PAUL
LAMMERS | MARLIES | ANN
LANDER | STEPHEN | J.
LANGWITH | CATHERINE | LOUISE
LAWTON | ELLEN | LUCILLE
LAY | MARIA | I.
LEDERMAN | RAPHAEL | PHILIPPE GILBERT
LEE | SEAN |
LEE | THEODORE | FREDERICK
LEENDERS | MATTHEUS | J. M.
LEIGHTON | RYAN | PATRICK
LELEUX | ALLIETTE |
LEONOV | VLADIMIR |
LEVI | ANNA | MARI
LEVIN | BORIS |
LEVIN | MALCOLM | GIDEON
LI | JUN |
LI | SHUXIN |
LI | WEI |
LIEGEL | MICHAEL |
LIGOT | ANTHONY | FELICIO VINCENT MARIO MICHEL
LIM | JENNIFER |
LIMOR | ORY |
LIN | YUANQING |
LIN | YUIN |
LINDER | DEBRA | RAE
LINTJER | JULIETTE |
LITTLE | ROBERT | B.
LIU | GEORGE | K.C.
LLANES | MONIQUE | MARTHA
LLOYDS | DAVID | WILLIAM
LO | CHRIS | CZE WAI
LOCNIKAR | SILVIA | A.
LOERKENS | JANET | ELLEN
LOGSDAIL | JASON | LLOYD
LOMBARDO | TERESA |
LOOS | MICHAELA |
LOPEZ DE LA VEGA | BEATRIZ | FERRER
LOUKAS | LAMPROS | LEONIDAS
LU | TZU-YING |
LUENEBURGER | CHRISTOPH |
LUK | ERIC | CHUN WANG
MA | TERENCE | K.
MAAG | JESSICA | MARGARETTE
MACDONALD | CAROLE | H.
MACLELLAN | DEBRA | J.
MACMILLAN | JEFFREY | F.
MACMILLAN | PATRICIA | L.
MAHAUD | JEAN GUY | ANDRE
MAHLEB | ERIC | ROBERT
MANG | TAK | CHI
MANSION | BENOIT | L.
MANSION | TOM | C.
MANSURI | KAMRAN |
MARCAZZO | HANNAH | SUSAN KATHLEEN
MARINO | LUISA | QUINOY
MASIRONI | FULVIO | MARIO
MASTANDREA | LUIGI | GIUSEPPE
MATSUMOTO | MAKIKO |
MAURO | GIULIA | PAOLA
MCCANN | THOMAS | JAMES
MCCRACKEN | TOM | EDWIN
MCFADYEN | JENNIFER | L.
MCGARRY | JOHN | COLIN
MCLEOD | KATE | E.
MEDEIROS | JEANNINE | MARIE
MEIER-GIBBONS | FRANCES | EVELYN
MELCHER | ADAM | SHEPHARD
MELSAETHER | JANNE | ELIN
MENGEL | BENEDICTE |
MENGEL | CHRISTIAN | V.
MERCER | MARC | ARTHUR
MEYNEN RUSSELL | SARA | BARNUM
MEZIERE | CAROLINE |
MICHAUD | SEBASTIAN | EMILE
MIKALSEN | KJELL | GEORG
MILBURN | CYNTHIA | ASHLEY
MILLAR | CHRISTOPHER | PATRICK
MILLAR | MICHAEL | S.
MILLAR | SANDRA | E.
MITCHELL | CHARLES | KONRAD
MITCHELL | WILLIAM | GRANT
MITTON | ROBERT |
MIYAMOTO | YUMIKO |
MOECKLI | SIMON | WALTER
MOGSTAD | ROLF |
MOLDEN DENIAU | ALEXANDRA | PAGE
MOLTZ | KAREN | SAMPSON
MONAGHAN | MARGARET | LIVIA
MONCADA | ALBERTO | GIOVANNI
MONCADA | VALENTINA | GIOVANNA
MONNEY | TIFFANY | SARAH
MONTANO | TERESA | A.
MONTAZERIAN | MEHDI |
MOORE | JULIA | KATHERINE
MORAINE | ASTRID | GENEVIEVE
MORRISON | JOANNA | ALLISON
MOTTE | GWENDOLINE | MARIE
MOULTON | LUCY | ANN
MULLER | SIMONE | CLAUDIA
MURATANI | TATEKI |
MURPHY | TAYLA | MAREE
MYUNG | JAYHYUK |
NAGASAKA | KEIKO |
NAGASAKA | MASAYA |
NAGATA | RYOICHI |
NEAL | HENNA | ELISABETH
NEWBOULD | CARELIA | S.
NEWSOME | MATTHEW | D.
NEWTON | NICHOLAS | JOHN
NEWTON | RACHAEL | ELIZABETH
NITZSCHE | ERNST | ALFRED
NITZSCHE | NICOLA | JANE
NOBBERS | ANNEMARIE |
NONNI-FARAC | LYDIA | ROSAPIA
NOWOWIEJSKI | DANA |
NUNN | ROSEMARIE |
OH | YOUNG | RAN
OHANA | JACQUES | A.
OHLENDORF | TESSA | RUTH
OLIVER | THEA | BETH
OMURA | KOKI |
OSULLIVAN | LORNA | M.
OSULLIVAN | PATRICK | M.
OUYOUB | HAMID |
PALLARES | MARIA | DE PILAR
PARIKH | SACHIN | J.
PATEL | AMITA | BHAGWANJI
PATEL | MAYUR | MAHENDRABHAI
PATHMANATHAN | WIJEYANAND |
PATTEN | WAYNE | HARRIS
PEARSON | DONALD | JAMES
PEARSON | SUZANNA | NANCY
PEGRUM | STEVEN | BRANDON
PELLONI-ROBINS | MELODIE | GAY
PENROSE | JACQUELINE | ANNE
PENRUDDOCKE | ADRIANA | URSULA
PETERS | AARJEN | DEAN
PETERS | CHRISTINE | ANN
PHILIPP | ALEXANDER | MAXWELL
PITTS | MARY | LOUISA
PIVIN | NICHOLAS | HUGHES HENRY
POON | CHRISTOPHER | JAMES
POULIN | MONIKA | A.
PRIEST | RICHARD | MAURICE
PRIOR | SUSAN | ELLIS
PUCKERING | ANDREW | DAVID
RAMUNDO JR | IGINIO | A.
RAND | HILLARY | GRAY
RAWSON | CLAUDE | J.
RAYMOND VIROS | ALEXANDER | PAUL
RAZ | STAV |
REGUEIRO | ALEXANDER |
REIDENBACH | MANUELA |
REINER | DEBORAH | FAIRMAN
REMDE | AXEL | JENS
REMIE | CHRISTOFORUS | STEFANUS MARIA
RIJKENS | CLAIRE | ANNA
RINGWALD | SEBASTIAN |
RIVA | TIM | SEAN
ROBBAZ | XAVIER | LOUIS
ROCH | BRIGITTE | MARIA
ROLLE | BARBARA |
ROMIJN | JASPER |
ROSSMANITH | MATTHIAS | P.
RUPP | REBECCA | FAYE LIECHTY
RUSSELL | KATHLEEN |
RUSSELL | PETER | T.
RYPPA | XAVER |
SABLAN | ANTHONY | FRANCISCO
SADDEN | EUAN | RICHARD
SADEGHI | KAZEM |
SALADINO | LEE | HULL
SALATINO | CYNTHIA | LYNN
SALUJA | JASJEET | SINGH
SANDBERG | JOYCE | C.
SANNER | MICHAEL | HINSVERK
SARTORIUS | DANIEL | MATTHIAS
SARTORIUS | YVETTE | MARIA
SASAKI | THOMAS | TAKAHISA
SAUTEROT | SIMONE |
SCHAEFER | JOERG |
SCHARF | ANNA |
SCHOUMAKERS | KELLY | MARIE
SCHRIMPF | ROBERT | MARSHALL
SCHULTZ | JAMES | FRANKLIN
SCHUTTE | ADRIA | GERRITA
SCHWARTZ | GORIA | R.
SCHWIEGER | FLORIAN |
SEIXEIRO | APRIL | G.
SEIXEIRO | STEVE | F.
SEQUEIRA | KYOKO | Y.
SERVETTI | GIANMARCO |
SETT | MERRILEE |
SHAH | MILAP |
SHIACH | PATRICIA | J.
SHIMOYAMA | SHINJI |
SHIMOYAMA | YOSHIKO |
SHIRREFF | ERIN |
SIBRAVA | IVANA |
SIGG | NATHANAEL | PHILIPPE
SIM | DAVID | F.
SIMAN | KATHERINE | ANGELA
SIMON | RICHARD |
SIMPSON | KRISTA | MEGAN
SIMS | CHRISTOPHER | FRANCIS
SKAPINKER | ARI | D.
SMITH | CHRISTOPHER | MCLEAN
SMITH | KEVIN | RAY
SMITH | MALCOLM |
SON | JONG | HYUN
SONG | JIWAN |
SONGSEE | TAPANEE |
SOOD | SUSHEEL | K.
SORENSEN | JOHN | JOSEPH
SPAANS | LOUISA | NIGELLA
SPAGNOLO | JOSEPH | DOMINICK
SPIKERMAN | JUDITH | ANN
SPOHN | PETER | MARTIN HOWARD
SPRAY | VIRGINIA | A.
STAVRIOTIS | MICHIKO |
STEELS | LENIE | MARIA
STEENSMA | MAX | CHRISTIAAN VINCENT
STEENSMA-DE JONG | MATHILDE | CATARINA
STEMPER IV | JOHN | LOUIS
STEUERWALD | NOEMI | ANTONIA
STINDT | STEVEN | GARY
STOTHERT | CATRIN | EIRLYS
STRAUBINGER | DANIELA | CHRISTINE
STRAUSS | DANA | LEIGH
STUBENBERG | LEOPOLD |
STUMPE | KAREN | BEVERLY SMIT
TAKAHASHI | HIDEO |
TALMA | DIRK | SYBRAND
TANAKA | AKIRA |
TANAKA | HIDEAKI |
TANIGUCHI | MIYOKO |
TAYFUN | TARIK |
TAYLOR | SARAH | ELIZABETH WIGMORE
TAYLOR | SHARON |
TEE | PAULA | SUZANNE
TEHEE | RYAN | PATRICK
TEMMINK | ANKE | CARIN
TERCEIRA | AMY | LAUREN
TERCEIRA | MICHAEL | RALPH
TERCEIRA | THEODORE | C.
TESHIMA | TATSUHISA |
TESHIMA | TOMOKO |
THARIN | OLIVIER | C.
THOMAS | MARTIN | LABBETT
THORPE | ANDREW |
THYS | YVES |
TOH | KEITH |
TOMLINSON | IRENE | L.
TOSTAIN | OLIVIER | ETIENNE MARIE
TOWELL | ANTHONY |
TOYOTA | MITSURU |
TOYOTA | TERUKO |
TROTTA | FRANCESCA |
TSAI | I. | CHEN
TSAKIRIS | ANASTASIOS |
TSE | SUSAN | MARGARET
TUNCAY | HEIDI |
TURLAPOV | ANDREY | V.
TYLER | ALICE | H.
TYLER | FRANCIS | S.
TZONEV | DIMITRE | DIMOV
URANO | TAMAMI |
USUI | SACHIYO |
VAAGNES | ALICE | BENTE
VACHER | CAROLE |
VAESSEN | MAURICE | PETER
VAESSEN | RAYMOND | ADRIANUS JACOBUS
VAN AARLE | FRANCISCUS |
VAN BENTUM | OTTO | A.
VAN BERKEL | LUCIA | ANTONIA
VAN DAALEN | OLIVER | MICHAEL
VAN DER HULST | TJEERD |
VAN ERVEN | SYBELLE | B.E.
VAN LOON | BASTIAAN | LAMBERTUS
VAN MILGEN | HILLEBRAND |
VAN NIEKERK | PIETER | A.
VANDENBERG | LLOYD | HENDRICUS
VANMARLE | WILLIAM |
VAVELIDIS | EFSTRATIOS |
VELLA | CHRISTOPHER | M.
VERHOEF | ARNOUD |
VIERLING | VIRGINIA | WILHELMINA LUCIA
VIGOUREUX | ALEXANDER | LE
VISHLOFF | SANDRA | LYNN
VOCE | SAMANTHA | MARY
VOGT | RAINER | KENT
VON BOEHM-BEZING | ANNETTE | BARBARA
VOUTE | SEBASTIAAN | JEROEN
VROEGOP | AMANDA | LOUISE
WAKEFIELD | ROSEMARY | K.
WAN | HONGYAN |
WANG | QUN |
WARD | BARBARA | JOSE
WARD | BRIAN | MICHAEL
WARD | LYNDA | G.
WARING | IAN |
WATANABE | AKIKO |
WEBBER | PETER | HOWARD
WEBSTER | JENNIFER | MARIE BRIDGETT
WEEDA | MIRIAM | MARIJTJE BAAFJE
WEIAND | PATRICK | GARY
WESTDIJK | CAROLINE | HELENE
WETMORE | GAIL | BELLE
WHEATLEY | ANTHONY | PAUL
WIGHT | ARDEN | L.
WIGHT | ROBERT | D.
WILCZEWSKI-CLAIRET | MARIA |
WILLIAMS | MICHAEL | CHRISTOPHER
WIPPEL | MICHAEL |
WITTE | FREDRIK | KARL
WOLFF | ILEANA | ANN
WONG | CHRISTINE | FONG FONG
WONG | CURTIS | ALLEN
WONG | DONNA | ELAINE
WOOLF | ANDREW | L.
WOOLF | MICHELLE | A.
WORKMAN | BARBARA | CAROL
WU | XIAOQING |
WURMBACH | ACHIM | JOHANNES
WUSSING | URSULA |
WUSSING | WILHELM | ALFRED R.
XIONG | YUJIE |
YANAGAWA | MUTSUKO |
YANG | HANSONG |
YANG | JIONG |
YATES | JAMES | MICHAEL
YEE | JACQUELINE | CHI WAI
YEN | PAU | YONG
YONEKAWA | YOSHIOU |
YOSHIDA | SATORI |
YUNG | ISAAC | MING-SUN
YUNG | NGAN | HAU
ZENUK | TANYA | E.
ZHANG | HONGQING |
ZHANG | WEIYANG | T.
ZHANG | ZHEHUA |
ZHI | XUEYAN |
ZUNE | CATHERINE | ALINE MARIE

Dated: January 27, 2021.
Godofredo Burgos-Rodriguez,
Manager Classification Team 82413, Examinations Operations—Philadelphia Compliance Services.

[FR Doc. 2021-02337 Filed 2-3-21; 8:45 am]

BILLING CODE 4830-01-P